ENVIRONMENTAL PROTECTION AGENCY

40 CFR Part 52

[VA088-5051b; FRL-6880-7]

Approval and Promulgation of Air Quality Implementation Plans; Virginia; 15 Percent Plan for Northern Virginia Portion of the Metropolitan Washington, DC Ozone Nonattainment Area

AGENCY: Environmental Protection Agency (EPA).

ACTION: Proposed rule.

SUMMARY: We are proposing to convert our conditional interim approval of the State Implementation Plan (SIP) revision submitted by the Commonwealth of Virginia for the Northern Virginia portion of the Metropolitan Washington, D.C. ozone nonattainment area to achieve a 15 percent reduction in volatile organic compound emissions (the 15% plan) to a full approval. In the “Rules and Regulations” section of this Federal Register, we are converting our conditional interim approval of Virginia's 15% plan SIP revision to a full approval as a direct final rule because we view this as a noncontroversial amendment and because we anticipate no adverse comments. A detailed rationale for the approval is set forth in the direct final rule. If we receive no adverse comments, we will not undertake further action on this proposed rule. If we receive adverse comments, we will withdraw the direct final rule, and it will not take effect. We will address all public comments in a subsequent final rule based on this proposed rule. We will not institute a second comment period on this action. Anyone interested in providing comments on this action should do so at this time.

DATES: Comments must be received in writing by November 6, 2000.

ADDRESSES: Written comments should be addressed to David L. Arnold, Chief, Ozone and Mobile Sources Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Virginia Department of Environmental Quality, 629 East Main Street, Richmond, Virginia 23219.

FOR FURTHER INFORMATION CONTACT: Janice Lewis, (215) 814-2185, at the EPA Region III address above, or by e-mail at lewis.janice@epa.gov.

SUPPLEMENTARY INFORMATION: For further information, please see the direct final rule, with the same title, located in the “Rules and Regulations” section of this Federal Register publication.

Dated: September 25, 2000.
Bradley M. Campbell,
Regional Administrator, Region III.

[FR Doc. 00-25471 Filed 10-5-00; 8:45 am]

BILLING CODE 6560-50-P